DEPARTMENT OF COMMERCE

National Oceanic and Atmospheric Administration

RIN 0648-XA980

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Habitat/MPA/Ecosystem Committee, in February 2012, to consider actions affecting New England fisheries in the exclusive economic zone (EEZ). Recommendations from this group will be brought to the full Council for formal consideration and action, if appropriate.

DATES: This meeting will be held on Thursday, February 23, 2012, at 9:30 a.m.

ADDRESSES: This meeting will be held at the Sheraton Harborside Hotel, 250 Market Street, Portsmouth, NH 03801; telephone: (603) 431-2300; fax: (603) 433-5649.

Council Address: New England Fishery Management Council, 50 Water Street, Mill 2, Newburyport, MA 01950.

FOR FURTHER INFORMATION CONTACT: Paul J. Howard, Executive Director, New England Fishery Management Council; telephone: (978) 465-0492.

SUPPLEMENTARY INFORMATION: The purpose of this meeting is for the Council's Habitat Committee to recommend management measures for further development and analysis in Omnibus Essential Fish Habitat Amendment 2. Two types of measures will be considered at the meeting: (1) options to minimize the adverse effects of fishing on Essential Fish Habitat and (2) alternatives to protect deep-sea corals from the impacts of fishing.

Note that this meeting was originally planned for January 25, 2012 as the second day of a 2-day meeting, but was cancelled due to scheduling conflicts. However, the management measures listed above were discussed by the Habitat Committee and its Advisory Panel during day one of that meeting, which was held as planned on January 24. The outcomes of those discussions will be considered at this meeting, along with any additional analyses and recommendations prepared by the Habitat Plan Development Team.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: February 1, 2012.
Tracey L. Thompson,
Acting Director, Office of Sustainable Fisheries, National Marine Fisheries Service.

[FR Doc. 2012-2551 Filed 2-3-12; 8:45 am]

BILLING CODE 3510-22-P